SMALL BUSINESS ADMINISTRATION

[Declaration of Disaster #3534]

State of Ohio

(Amendment #3)

In accordance with a notice received from the Department of Homeland Security—Federal Emergency Management Agency, effective August 25, 2003, the above numbered declaration is hereby amended to establish the incident period as beginning on July 21, 2003 and continuing through August 25, 2003.

All other information remains the same, i.e., the deadline for filing applications for physical damage is September 30, 2003, and for economic injury the deadline is May 3, 2004.

(Catalog of Federal Domestic Assistance Program Nos. 59002 and 59008).
Dated: August 29, 2003.
Cheri L. Cannon,
Acting Associate Administrator for Disaster Assistance.

[FR Doc. 03-23084 Filed 9-9-03; 8:45 am]

BILLING CODE 8025-01-P